ENVIRONMENTAL PROTECTION AGENCY

40 CFR Part 52

[EPA-OAR-R04-2008-0512-200815 (a); FRL-8706-4]

Approval and Promulgation of Plans; North Carolina: Miscellaneous Revisions

AGENCY: Environmental Protection Agency (EPA).

ACTION: Direct final rule.

SUMMARY: EPA is taking direct final action to approve revisions to the State Implementation Plan (SIP) submitted by the North Carolina Department of Environment and Natural Resources (NCDENR) on behalf of the State of North Carolina on April 16, 2001, April 4, 2003, and December 14, 2004. The purpose of these revisions is to require that continuous emissions monitoring systems be used to determine compliance; specify a 24-hour block averaging time for sulfur dioxide emissions; make a correction to a cross-reference; provide options for supplying missing data and for determining heat input; and make several revisions to permit exemptions. This action is being taken pursuant to section 110 of the Clean Air Act (CAA).

DATES: This direct final rule is effective October 21, 2008 without further notice, unless EPA receives adverse comment by September 22, 2008. If EPA receives such comments, it will publish a timely withdrawal of the direct final rule in the Federal Register and inform the public that the rule will not take effect.

ADDRESSES: Submit your comments, identified by Docket ID No. EPA-OAR-R04-2008-0512 by one of the following methods:

1. http://www.regulations.gov: Follow the on-line instructions for submitting comments.

2. E-mail: ward.nacosta@epa.gov.

3. Fax: (404) 562-9019.

4. Mail: “EPA-OAR-R04-2008-0512,” Regulatory Development Section, Air Planning Branch, Air, Pesticides and Toxics Management Division, U.S. Environmental Protection Agency, Region 4, 61 Forsyth Street, SW., Atlanta, Georgia 30303-8960.

5. Hand Delivery or Courier: Nacosta C. Ward, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to Docket ID No. “EPA-OAR-R04-2008-0512.” EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Nacosta C. Ward, Regulatory Development Section, Air Planning Branch, Air, Pesticides and Toxics Management Division, U.S. Environmental Protection Agency, Region 4, 61 Forsyth Street, SW., Atlanta, Georgia 30303-8960. The telephone number is (404) 562-9140. Ms. Ward can also be reached via electronic mail at ward.nacosta@epa.gov.

SUPPLEMENTARY INFORMATION:

Table of Contents

I. EPA's Action

II. Analysis of the State's Submittals

III. Final Action

IV. Statutory and Executive Order Reviews

I. EPA's Action

EPA is taking direct final action to approve multiple revisions for several rules submitted by NCDENR on April 16, 2001, April 4, 2003, and December 14, 2004. The revisions were submitted to update the SIP with State rule changes. The rule changes support North Carolina's plan for attainment and maintenance of the NAAQS. The rule changes now being incorporated into the SIP are as follows:

a. 15A North Carolina Administrative Code (NCAC) subchapter 2D, section .0519, “Emission Control Standards; Control of Nitrogen Dioxide and Nitrogen Oxides” (submitted December 14, 2004, and effective January 1, 2005);

b. 15A NCAC subchapter 2D, section .0606, “Monitoring: Recordkeeping: Reporting; Sources Covered by Appendix P of 40 CFR part 51” (submitted April 16, 2001, April 4, 2003, and December 14, 2004, and effective January 1, 2005);

c. 15A NCAC subchapter 2D, section .0608, “Monitoring/Recordkeeping/Reporting; Other Large Coal or Residual Oil Burners” (submitted April 16, 2001, April 4, 2003, and December 14, 2004, and effective January 1, 2005);

d. 15A NCAC subchapter 2D, section .1404, “Nitrogen Oxides; Recordkeeping: Reporting: Monitoring” (submitted December 14, 2004, and effective January 1, 2005); and

e. 15A NCAC subchapter 2Q, section .0102, “Air Quality Permits Procedures; Activities Exempted from Permit Requirements” (submitted December 14, 2004, and effective January 1, 2005).

II. Analysis of State's Submittal

The following analysis is in the order of the rules noted above.

a. 15A NCAC, subchapter 2D, section .0519 is being revised to remove an incorrect cross-reference in the paragraph which specifies how to calculate the allowable emission limit for boilers that burn both coal and oil or gas.

b. and c. 15A NCAC, subchapter 2D, sections .0606 and .0608 are being revised to require continuous emission monitoring systems (CEMS) be used to determine compliance for sources covered by Appendix P of 40 CFR part 51 and other large coal or residual oil burners if these sources are required to use CEMS under another State or federal rule and to specify a 24-hour averaging time for sulfur dioxide emissions to determine compliance. These rules were revised to provide facilities an alternative method of sampling coal and fuel oil instead of sampling each fuel shipment individually. This revision was made to improve the quality of reported sulfur dioxide emissions estimates. The final revision to these rules allow for a different procedure or methodology other than those specified by sections .0606 and .0608 to be used if certain conditions are met, specifying the procedures for requesting these alternative methodologies and approval of the request to utilize them. These rules currently contain specific procedures and methodologies for how to monitor sulfur dioxide emissions for fossil fuel-fired steam generators, nitric acid plants, sulfuric acid plants, petroleum refineries, and other large coal or residual oil burners.

d. 15A NCAC, subchapter 2D .1404 is being revised to include options for supplying missing data and determining heat input. This revision allows the owner or operator of the source to avoid having to supply missing data if it can be documented that the source and its control device were being properly operated when the monitoring measurements are missing.

e. 15A NCAC, subchapter 2Q .0102 is being revised to make changes to several permit exemptions. Those permit exemptions pertain to petroleum dry cleaners, small fuel combustion sources which primarily combust wood, and emergency generators. Revisions to this section make corrections to a cross-reference and typographical errors and also includes a clarification that to qualify for the permit exemption, the exempted sources at a facility must not be in violation of any applicable emission standard.

III. Final Action

EPA is taking direct final action to approve the aforementioned revisions, specifically, subchapter 2D, sections .0519, .0606, .0608, and .1404, and subchapter 2Q, section .0102 into the North Carolina SIP. These revisions were submitted by NCDENR on April 16, 2001, April 4, 2003, and December 14, 2004.

EPA is publishing this rule without prior proposal because the Agency views this as a noncontroversial submittal and anticipates no adverse comments. However, in the proposed rules section of this Federal Register publication, EPA is publishing a separate document that will serve as the proposal to approve the SIP revision should adverse comments be filed. This rule will be effective October 21, 2008 without further notice unless the Agency receives adverse comments by September 22, 2008.

If EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on October 21, 2008 and no further action will be taken on the proposed rule.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 21, 2008. Filing a petition for reconsideration by the Administrator of this final rule does not affect the finality of this action for the purposes of judicial review nor does it extend the time within which a petition for judicial review may be filed, and shall not postpone the effectiveness of such rule or action. This action may not be challenged later in proceedings to enforce its requirements. (See, section 307(b)(2).)

List of Subjects in 40 CFR Part 52

Environmental protection, Air pollution control, Incorporation by reference, Intergovernmental relations, Nitrogen dioxide, Ozone, Particulate matter, Reporting and recordkeeping requirements, Sulfur oxides, Volatile organic compounds.

Dated: August 6, 2008.
Russell L. Wright, Jr.,
Acting Deputy Regional Administrator, Region 4.

40 CFR part 52 is amended as follows:

PART 52—[AMENDED]

1. The authority citation for part 52 continues to read as follows:

Authority: 42 U.S.C. 7401 et seq.

Subpart II—North Carolina

2. In § 52.1770(c), table 1 is amended:

(a) Under subchapter 2D by revising the entries for “.0519 Control of Nitrogen Dioxide and Nitrogen Oxides,” “.0606 Sources Covered by Appendix P of 40 CFR Part 51,” “.0608 Other Large Coal or Residual Oil Burners,” “.1404 Recordkeeping: Reporting: Monitoring”; and

(b) Under subchapter 2Q by revising the entry for “.0102 Activities Exempted from Permit Requirements” to read as follows:

§ 52.1770 Identification of plan.

* * * * *

(c) * * *

Table 1—EPA Approved North Carolina Regulations
State citation | Title/subject | State effective date | EPA approval date | Explanation
Subchapter 2D Air Pollution Control Requirements
* * * * * * *
Sect. 0519 | Control of Nitrogen Dioxide and Nitrogen Oxides | 01/01/05 | 08/22/08
* * * * * * *
Sect. 0606 | Sources Covered by Appendix P of 40 CFR part 51 | 01/01/05 | 08/22/08
* * * * * * *
Sect. 0608 | Other Large Coal or Residual Oil Burners | 01/01/05 | 08/22/08
* * * * * * *
Sect. 1404 | Recordkeeping: Reporting: Monitoring | 01/01/05 | 08/22/08
* * * * * * *
Subchapter 2Q Air Quality Permits
* * * * * * *
Sect. 0102 | Activities Exempted from Permit Requirements | 01/01/05 | 08/22/08
* * * * * * *

[FR Doc. E8-19192 Filed 8-21-08; 8:45 am]

BILLING CODE 6560-50-P